DEPARTMENT OF HOMELAND SECURITY

Coast Guard

[Docket No. USCG-2013-1078]

National Offshore Safety Advisory Committee; Meeting

AGENCY: Coast Guard, DHS.

ACTION: Notice of Federal Advisory Committee meetings.

SUMMARY: The National Offshore Safety Advisory Committee and its Commercial Diving Safety on the Outer Continental Shelf Subcommittee will meet on April 7 and 8, 2015, in New Orleans, LA to discuss the safety of operations and other matters affecting the offshore oil and gas industry. These meetings are open to the public.

DATES: The Commercial Diving Safety on the Outer Continental Shelf Subcommittee will meet on Tuesday, April 7, 2015, from 1 p.m. to 2 p.m. and the full National Offshore Safety Advisory Committee will meet on Wednesday, April 8, 2015, from 8:30 a.m. to 4:30 p.m. These meetings may end early if the Committee has completed its business, or they may be extended based on the number of public comments. All submitted written materials, comments, and requests to make oral presentations at the meetings should reach the Coast Guard (see FOR FURTHER INFORMATION CONTACT) by April 1, 2015. Any written material submitted by the public will be distributed to the Committee and become part of the public record.

ADDRESSES: The meetings will be held at the OMNI Riverfront Hotel, 701 Convention Center Boulevard, New Orleans, LA 70130, (504) 524-8200, http://www.omnihotels.com/hotels/new-orleans-riverfront. The April 7, 2015 afternoon Subcommittee meeting will be held in the Bacchus B Conference Room. The April 8, 2015 full Committee meeting will be held in the Bacchus Conference Room.

For information on facilities or services for individuals with disabilities, or to request special assistance at the meetings, contact the individuals listed in FOR FURTHER INFORMATION CONTACT section, as soon as possible.

To facilitate public participation, we are inviting public comment on the issues to be considered by the Committee as listed in the “Agenda” section below. Written comments for distribution and review by Committee members prior to the meeting must be submitted no later than April 1, 2015, must be identified by docket number USCG-2013-1078 and submitted by one of the following methods:

• Federal eRulemaking Portal: http://www.regulations.gov. Follow the instructions for submitting comments (Preferred method to avoid delays in processing).

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number for the Docket Management Facility is (202) 366-9329.

To avoid duplication, please submit comments using only one of the above methods.

Instructions: All submissions must include the words “Department of Homeland Security” and the docket number for this action, USCG 2013-1078. All comments submitted will be posted without alteration at http://www.regulations.gov including any personal information provided. You may review a Privacy Act notice regarding our public dockets in the January 17, 2008, issue of the Federal Register (73 FR 3316).

Docket: For access to the docket to read documents or comments related to this notice, go to http://www.regulations.gov, insert USCG-2013-1078 in the Search box, press Enter, and then click on the item you wish to view.

A public oral comment period will be held during the meeting on April 8, 2015, and speakers are requested to limit their comments to 3 minutes. Contact one of the individuals listed below to register as a speaker.

FOR FURTHER INFORMATION CONTACT: Lieutenant Commander William Nabach, Designated Federal Official of the National Offshore Safety Advisory Committee, Commandant (CG-OES-2), U.S. Coast Guard, 2703 Martin Luther King Jr. Avenue SE. Stop 7509, Washington, DC 20593-7509; telephone (202) 372-1410, fax (202) 372-8382 or email William.A.Nabach@uscg.mil, or Mr. Scott Hartley, telephone (202) 372-1437, fax (202) 372-8382 or email Scott.E.Hartley@uscg.mil. If you have questions on viewing or submitting material to the docket, call Ms. Cheryl Collins, Program Manager, Docket Operations, telephone (202) 366-9826 or (800) 647-5527.

SUPPLEMENTARY INFORMATION: Notice of this meeting is given under the authority of 41 CFR 102-3 and Federal Advisory Committee Act, 5 U.S.C. 552(a). The National Offshore Safety Advisory Committee provides advice and recommendations to the Department of Homeland Security on matters and actions concerning activities directly involved with or in support of the exploration of offshore mineral and energy resources insofar as they relate to matters within U.S. Coast Guard jurisdiction.

A copy of all meeting documentation will be available at https://homeport.uscg.mil/NOSAC. Alternatively, you may contact Mr. Scott Hartley as noted in the FOR FURTHER INFORMATION CONTACT section above.

Agenda

Day 1

The National Offshore Safety Advisory Subcommittee on Commercial Diving Safety on the Outer Continental Shelf will meet on April 7, 2015 from 1 p.m. to 2 p.m. to review, discuss and formulate recommendations for a final report on commercial diving safety.

Day 2

The National Offshore Safety Advisory full Committee will meet on April 8, 2015 from 8:30 a.m. to 4:30 p.m. to review and discuss Subcommittee progress, reports and recommendations received from the Subcommittee on Commercial Diving Safety on the Outer Continental Shelf from their deliberations on April 7, 2015. The National Offshore Safety Advisory Committee will then use this information and consider public comments in formulating recommendations to the Coast Guard. Public comments or questions will be taken at the discretion of the Designated Federal Official during the discussion and recommendation portions of the meeting as well as during the public comment period, see Agenda item (4).

A complete agenda for April 8, 2015, is as follows:

(1) Current Business—Presentation and discussion of a final report and included recommendations from the Subcommittee on Commercial Diving Safety on the Outer Continental Shelf.

(2) New Business—Introduction of new Task Statements by the Coast Guard:

(a) Cyber Security on the U.S. Outer Continental Shelf;

(b) Offshore Well Intervention Vessel Operations, Activities, Purpose and Definition;

(c) Safety of Persons Assigned to Lifeboats during Launching, Recovery and Maintenance Activities for Units working on the U.S. Outer Continental Shelf; and

(d) Towage of Mobile Offshore Drilling Units, Mobile Offshore Units and Floating Offshore Installations on the U.S. Outer Continental Shelf.

(3) Presentations and discussions on the following matters:

(a) Annual Report of Coast Guard Action/Disposition on National Offshore Safety Advisory Committee Final Reports;

(b) International Association of Drilling Contractors Contractor Management and Bridging Arrangement;

(c) Arctic and International Maritime Organization Polar Code; and

(d) Well Intervention.

(4) Public comment period.

The agenda, draft final report, new task statements and presentations will be available approximately 7 days prior to the meeting at the https://homeport.uscg.mil/NOSAC Web site or by contacting Mr. Scott Hartley.

Minutes

Meeting minutes will be available for public view and copying within 90 days following the meeting at the https://homeport.uscg.mil/NOSAC Web site.

Notice of Future 2015 National Offshore Safety Advisory Committee Meetings

To receive automatic email notices of future National Offshore Safety Advisory Committee meetings in 2015, go to the online docket, USCG-2013-1078 (http://www.regulations.gov/#!docketDetail:D=USCG-2013-1078), and select the sign-up-for-email-alerts option.

Dated: 16 March 2015.
J.G. Lantz,
Director of Commercial Regulations and Standards, U.S. Coast Guard.

[FR Doc. 2015-06413 Filed 3-19-15; 8:45 am]

BILLING CODE 9110-04-P